DEPARTMENT OF THE INTERIOR

Bureau of Land Management

[NMNM 46832 and NMNM 46839]

Public Land Order No. 7670; Revocation of Secretarial Orders Dated August 17, 1907 and August 27, 1908; New Mexico

AGENCY: Bureau of Land Management, Interior.

ACTION: Public land order.

SUMMARY: This order revokes two Secretarial Orders in their entirety, which withdrew 240 acres of National Forest System land for use as an administrative site known as Station No. 34 or Baca Administrative Site.

DATES: Effective Date: September 18, 2006.

FOR FURTHER INFORMATION CONTACT: Gilda Fitzpatrick, BLM New Mexico State Office, 1474 Rodeo Road, Santa Fe, New Mexico 87502, 505-438-7597.

SUPPLEMENTARY INFORMATION: The Forest Service has determined that the withdrawals are no longer needed and has requested the revocation. The land will not be opened to surface entry or mining until completion of an analysis to determine if any of the land needs special designation.

Order

By virtue of the authority vested in the Secretary of the Interior by section 204 of the Federal Land Policy and Management Act of 1976, 43 U.S.C. 1714 (2000), it is ordered as follows:

The Secretarial Orders dated August 17, 1907 and August 27, 1908, which withdrew National Forest System land for use as an administrative site known as Station No. 34 or Baca Administrative Site, are hereby revoked in their entirety.

Dated: August 30, 2006.
R. Thomas Weimer,
Assistant Secretary of the Interior.

[FR Doc. E6-15414 Filed 9-15-06; 8:45 am]

BILLING CODE 3410-11-P